DEPARTMENT OF THE INTERIOR

National Park Service

Cuyahoga Valley National Park, OH

AGENCY: National Park Service, Interior.

ACTION: Notice of Availability of a Plan of Operations and Environmental Assessment for a 30-day public review at Cuyahoga Valley National Park, Summit County, Ohio.

SUMMARY: The National Park Service (NPS), in accordance with Section 9.52(b) of Title 36 of the Code of Federal Regulations has received from Medina Fuel Company, Inc., a Plan of Operations to Conduct Geophysical (seismic) Testing within Camp Manatoc Boy Scout Reservation for the purpose of developing future oil/gas wells within the camp. A plan of operations describes the proposed operation, including the equipment, methods and materials to be used in the operation, mitigation measures to protect park resources and values and environmental conditions in the vicinity of the site, and environmental impacts of the proposed operation. When approved, the plan of operations serves as the operator's permit to conduct operations in a park. Camp Manatoc is private property located within Cuyahoga Valley National Park, just east of Peninsula, Ohio. The proposed plan of operation is subject to the existing Deed of Preservation and Conservation Easement between the Boy Scouts of America and the National Park Service at Cuyahoga Valley National Park. Under the provisions of the National Environmental Policy Act of 1969, the National Park Service has prepared an Environmental Assessment which evaluates potential environmental impacts associated with the proposed geophysical operation located within the park.

DATES: The above documents are available for public review and comment for a period of 30 days from the publication date of this notice in the Federal Register.

ADDRESSES: The Plan of Operations and Environmental Assessment are available for public review and comment in the Office of the Superintendent, Cuyahoga Valley National Park, 15610 Vaughn Road, Brecksville, Ohio. Copies of the Plan of Operations are available, for a duplication fee, from the Superintendent, Cuyahoga Valley National Park, 15610 Vaughn Road, Brecksville, Ohio 44141.

FOR FURTHER INFORMATION CONTACT: Meg Plona, Biologist, Cuyahoga Valley National Park, 15610 Vaughn Road, Brecksville, Ohio 44141. Telephone: (330) 342-0764, e-mail at Meg_Plona@nps.gov.

SUPPLEMENTARY INFORMATION: If you wish to submit comments about this document within the 30 days, mail them to the address provided above, hand deliver them to the park at the street address provided above, or electronically file them to the e-mail address provided above. Our practice is to make the public comments we receive in response to planning documents, including names and home addresses of respondents, available for public review during regular business hours. We will make all submissions from organizations or businesses, and from individuals identifying themselves as representatives or officials of organizations or businesses, available for public inspection in their entirety. Individual respondents may request that we withhold their home address from the public record, and we will honor such requests to the extent allowable by law. If you wish to withhold your name and/or address, you must state this prominently at the beginning of your comment.

Dated: July 12, 2004.
John P. Debo, Jr.,
Superintendent, Cuyahoga Valley National Park.

[FR Doc. 04-25355 Filed 11-15-04; 8:45 am]

BILLING CODE 4312-52-P